DEPARTMENT OF JUSTICE

Drug Enforcement Administration

21 CFR Part 1308

[DEA-206]

RIN 1117-AA55

Exemption From Control of Certain Industrial Products and Materials Derived From the Cannabis Plant

AGENCY: Drug Enforcement Administration (DEA), Department of Justice.

ACTION: Interim Rule; extension of grace period to dispose of existing inventories of hemp products.

SUMMARY: On October 9, 2001, DEA published in the Federal Register (66 FR 51539) an interim rule which exempted from control certain THC-containing industrial products, processed plant materials used to make such products, and animal feed mixtures. With respect to those products that were not exempted from control under the interim rule, DEA provided in the interim rule a 120-day grace period to allow persons with existing inventories to dispose of such inventories. The 120-day grace period ended on February 6, 2002. However, DEA will now extend the grace period until March 18, 2002, under the same terms as previously set forth in the interim rule.

DATES: Effective October 9, 2001. The grace period for the disposal of existing inventories of non-exempted hemp products which expired on February 6, 2002, is extended to March 18, 2002.

FOR FURTHER INFORMATION, CONTACT: Frank Sapienza, Chief, Drug and Chemical Evaluation Section, Office of Diversion Control, Drug Enforcement Administration, Washington, DC 20537, Telephone (202) 307-7183.

SUPPLEMENTARY INFORMATION: On October 9, 2001, DEA published in the Federal Register (66 FR 51,539) an interim rule which exempted from control certain THC-containing industrial products, processed plant materials used to make such products, and animal feed mixtures. With respect to those products that were not exempted from control under the interim rule, DEA provided in the interim rule a 120-day grace period to allow persons with existing inventories to dispose of such inventories. The 120-day grace period ended on February 6, 2002. However, DEA will now extend the grace period until March 18, 2002, under the same terms as previously set forth in the interim rule.

Therefore, the terms of the extended grace period are as follows:

Any person who currently possesses a THC-containing “hemp” product not exempted from control under the October 9, 2001 interim rule has until March 18, 2002 to dispose of such product. However, during this extended grace period (as was the case during the prior grace period), no person may use any THC-containing “hemp” product for human consumption (as defined in the interim rule); nor may any person manufacture or distribute such a product with the intent that it be used for human consumption within the United States.

Regulatory Certifications

Regulatory Flexibility Act

The Administrator, Drug Enforcement Administration, hereby certifies that this rulemaking has been drafted in accordance with the Regulatory Flexibility Act (5 U.S.C. 605(b)), has reviewed this regulation, and by approving it certifies that this regulation will not have a significant economic impact on a substantial number of small entities. This rulemaking extends the grace period for persons to remove existing inventories of products containing tetrahydrocannabinols from their inventories and legally dispose of them.

Executive Order 12866

The Administrator further certifies that this rulemaking has been drafted in accordance with the principles in Executive Order 12866 section 1(b). DEA has determined that this is not a significant rulemaking action. Therefore, this action has not been reviewed by the Office of Management and Budget. This rulemaking provides a benefit to the regulated industry by extending the grace period for persons to legally dispose of existing inventories of products containing tetrahydrocannabinols.

Executive Order 12988

This regulation meets the applicable standards set forth in Sections 3(a) and 3(b)(2) of Executive Order 12988 Civil Justice Reform.

Executive Order 13132

This rulemaking does not preempt or modify any provision of state law; nor does it impose enforcement responsibilities on any state; nor does it diminish the power of any state to enforce its own laws. Accordingly, this rulemaking does not have federalism implications warranting the application of Executive Order 13132.

Unfunded Mandates Reform Act of 1995

This rule will not result in the expenditure by State, local, and tribal governments, in the aggregate, or by the private sector, of $100,000,000 or more in any one year, and will not significantly or uniquely affect small governments. Therefore, no actions were deemed necessary under the provisions of the Unfunded Mandates Reform Act of 1995.

Small Business Regulatory Enforcement Fairness Act of 1996

This rule is not a major rule as defined by section 804 of the Small Business Regulatory Enforcement Fairness Act of 1996. This rule will not result in an annual effect on the economy of $100,000,000 or more; a major increase in costs or prices; or significant adverse effects on competition, employment, investment, productivity, innovation, or on the ability of United States-based companies to compete with foreign-based companies in domestic and export markets.

Dated: February 11, 2002.
Asa Hutchinson,
Administrator.

[FR Doc. 02-3934 Filed 2-13-02; 3:07 pm]

BILLING CODE 4410-09-P